DEPARTMENT OF COMMERCE

International Trade Administration

[A-580-867]

Large Power Transformers From the Republic of Korea: Preliminary Results of Antidumping Duty Administrative Review; 2015-2016

AGENCY: Enforcement and Compliance, International Trade Administration, Department of Commerce.

SUMMARY: The Department of Commerce (the Department) is conducting an administrative review of the antidumping duty order on large power transformers (LPTs) from the Republic of Korea (Korea). The period of review is August 1, 2015, through July 31, 2016. The review covers five producers/exporters of the subject merchandise. We preliminarily determine that Hyosung Corporation (Hyosung) and Hyundai Heavy Industries Co., Ltd. (Hyundai), the two companies selected for individual examination, sold subject merchandise in the United States at prices below normal value during the period of review. Interested parties are invited to comment on these preliminary results.

DATES: Applicable September 7, 2017.

FOR FURTHER INFORMATION CONTACT: Moses Song or John Drury, AD/CVD Operations, Office VI, Enforcement and Compliance, International Trade Administration, U.S. Department of Commerce, 1401 Constitution Avenue NW., Washington, DC 20230; telephone: (202) 482-5041 or (202) 482-0195, respectively.

SUPPLEMENTARY INFORMATION:

Background

The Department initiated this review on October 14, 2016.¹ We selected two mandatory respondents in this review, Hyosung and Hyundai. For a more detailed description of the events that followed the initiation of this review, see the Preliminary Decision Memorandum, dated concurrently with these results and hereby adopted by this notice.²

¹ See Initiation of Antidumping and Countervailing Duty Administrative Reviews, 81 FR 71061 (October 14, 2016) (Initiation Notice); see also Initiation of Antidumping and Countervailing Duty Administrative Reviews, 81 FR 78778, 78781 (November 9, 2016) (Amended Initiation Notice). We issued an amended Federal Register initiation notice on November 9, 2016, to reflect one company name that was missing from the October 14, 2016 Initiation Notice.

² See Memorandum to Gary Taverman, Deputy Assistant Secretary for Antidumping and Countervailing Duty Operations, performing the non-exclusive functions and duties of the Assistant Secretary for Enforcement and Compliance, from James Maeder, Senior Director, performing the duties of Deputy Assistant Secretary for Antidumping and Countervailing Duty Operations, entitled “Decision Memorandum for Preliminary Results of Antidumping Duty Administrative Review: Large Power Transformers from the Republic of Korea; 2015-2016” (Preliminary Decision Memorandum), dated concurrently with this notice.

The Preliminary Decision Memorandum is a public document and is on file electronically via Enforcement and Compliance's Antidumping and Countervailing Duty Centralized Electronic Service System (ACCESS). Access to ACCESS is available to registered users at http://access.trade.gov and is available to all parties in the Central Records Unit, Room B8024 of the main Department of Commerce building. In addition, a complete version of the Preliminary Decision Memorandum can be accessed directly on the Internet at http://enforcement.trade.gov/frn/index.html. A list of topics discussed in the Preliminary Decision Memorandum is attached as an Appendix to this notice. The signed Preliminary Decision Memorandum and the electronic versions of the Preliminary Decision Memorandum are identical in content.

Scope of the Order

The scope of this order covers large liquid dielectric power transformers having a top power handling capacity greater than or equal to 60,000 kilovolt amperes (60 megavolt amperes), whether assembled or unassembled, complete or incomplete. The merchandise subject to the order is currently classified in the Harmonized Tariff Schedule of the United States at subheadings 8504.23.0040, 8504.23.0080 and 8504.90.9540. This tariff classification is provided for convenience and Customs purposes; however, the written description of the scope of the order is dispositive.³

³ The full text of the scope of the order is contained in Preliminary Decision Memorandum.

Methodology

The Department is conducting this review in accordance with section 751(a)(2) of the Tariff Act of 1930, as amended (the Act). For a full description of the methodology underlying our conclusions, see the Preliminary Decision Memorandum.

Facts Available

Pursuant to section 776(a) of the Act, the Department is preliminarily relying upon facts otherwise available to assign an estimated weighted-average dumping margin to the mandatory respondents in this review because both respondents withheld necessary information that was requested by the Department, thereby significantly impeding the conduct of the review. Further, the Department preliminarily determines that these mandatory respondents failed to cooperate by not acting to the best of their abilities to comply with requests for information and, thus, the Department is applying adverse facts available (AFA) to the respondents, in accordance with section 776(b) of the Act. For a full description of the methodology underlying our conclusions regarding the application of AFA, see the Preliminary Decision Memorandum.

Rate for Non-Selected Companies

In accordance with the U.S. Court of Appeals for the Federal Circuit's decision in Albemarle Corp. v. United States,⁴ we are applying to the non-selected companies the rate preliminarily applied to Hyosung and Hyundai in this administrative review.⁵ This is the only rate determined in this review for individual respondents and, thus, should be applied to the three non-selected companies under section 735(c)(5)(B) of the Act. For a detailed discussion, see the Preliminary Decision Memorandum.

⁴ See Albemarle Corp. v. United States, 821 F.3d 1345 (Fed. Cir. 2016).

⁵ See, e.g., Certain Small Diameter Carbon and Alloy Seamless Standard, Line, and Pressure Pipe (Under 4½ Inches) from Japan: Preliminary Results of Antidumping Duty Administrative Review and Preliminary Determination of No Shipments; 2014-2015, 81 FR 45124, 45124 (July 12, 2016), unchanged in Certain Small Diameter Carbon and Alloy Seamless Standard, Line, and Pressure Pipe (Under 4½ Inches) from Japan: Final Results of Antidumping Duty Administrative Review and Final Determination of No Shipments; 2014-2015, 81 FR 80640, 80641 (November 16, 2016).

Preliminary Results of Review

We preliminarily determine that, for the period August 1, 2015, through July 31, 2016, the following weighted-average dumping margins exist: ⁶

⁶ As AFA, we preliminarily assign Hyosung and Hyundai a dumping margin of 60.81 percent, an AFA rate used in the previous review. See Large Power Transformers from the Republic of Korea: Final Results of Antidumping Duty Administrative Review; 2014-2015, 82 FR 13432 (March 13, 2017). This rate achieves the purpose of applying an adverse inference, i.e., it is sufficiently adverse to ensure that the uncooperative party does not obtain a more favorable result by failing to cooperate than if it had fully cooperated. According to 776(c)(2) of the Act, this rate does not require corroboration.

Producer/exporter | Weighted- average dumping margin (percent)
Hyosung Corporation | 60.81
Hyundai Heavy Industries Co., Ltd | 60.81
Iljin Electric Co., Ltd | 60.81
Iljin | 60.81
LSIS Co., Ltd | 60.81

Disclosure and Public Comment

Normally, the Department discloses the calculations performed in connection with preliminary results to interested parties within five days after the date of publication of this notice.⁷ Because the Department preliminarily applied total AFA to each of the mandatory respondents in this review, in accordance with section 776 of the Act, there are no calculations to disclose.

⁷ See 19 CFR 351.224(b).

Interested parties may submit case briefs no later than 30 days after the date of publication of this notice.⁸ Rebuttal briefs, the content of which is limited to the issues raised in the case briefs, must be filed within five days from the deadline date for the submission of case briefs.⁹ Parties who submit case or rebuttal briefs in this proceeding are requested to submit with each argument: (1) A statement of the issue; (2) a brief summary of the argument; and (3) a table of authorities.¹⁰ Case and rebuttal briefs should be filed using ACCESS.¹¹ Case and rebuttal briefs must be served on interested parties.¹² Executive summaries should be limited to five pages total, including footnotes.

⁸ See 19 CFR 351.309(c)(1)(ii).

⁹ See 19 CFR 351.309(d)(1) and (2).

¹⁰ See 19 CFR 351.309(c)(2).

¹¹ See generally 19 CFR 351.303.

¹² See 19 CFR 351.303(f).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW., Washington, DC 20230, at a date and time to be determined.¹³ Parties should confirm the date, time, and location of the hearing two days before the scheduled date.

¹³ See 19 CFR 351.310(d).

The Department intends to publish the final results of this administrative review, including the results of its analysis of issues raised in any case or rebuttal brief, no later than 120 days after publication of these preliminary results, unless extended.¹⁴

¹⁴ See section 751(a)(3)(A) of the Act; 19 CFR 351.213(h).

Assessment Rates

Upon completion of this administrative review, the Department shall determine, and Customs and Border Protection (CBP) shall assess, antidumping duties on all appropriate entries. If the preliminary results are unchanged for the final results, we will instruct CBP to apply an ad valorem assessment rate of 60.81 percent to all entries of subject merchandise during the period of review which were produced and/or exported by Hyosung, Hyundai, and the aforementioned companies which were not selected for individual examination.¹⁵ We intend to issue liquidation instructions to CBP 15 days after publication of the final results of this review.

¹⁵ See Preliminary Decision Memorandum at “Rate for Non-Selected Companies” (for an explanation of how we preliminarily determined the rate for non-selected companies).

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for Hyosung and Hyundai and other companies listed above will be equal to the weighted-average dumping margin established in the final results of this administrative review; (2) for previously reviewed or investigated companies not listed above, the cash deposit rate will continue to be the company-specific rate published for the most recently completed segment of this proceeding in which they were reviewed; (3) if the exporter is not a firm covered in this review, a prior review, or in the investigation but the producer is, the cash deposit rate will be the rate established for the most recently completed segment of this proceeding for the producer of the merchandise; and (4) the cash deposit rate for all other producers or exporters will continue to be the all-others rate of 22.00 percent, the rate established in the investigation of this proceeding.¹⁶ These cash deposit requirements, when imposed, shall remain in effect until further notice.

¹⁶ See Large Power Transformers from the Republic of Korea: Antidumping Duty Order, 77 FR 53177 (August 31, 2012).

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Notification to Interested Parties

We are issuing and publishing this notice in accordance with sections 751(a)(1) and 777(i)(1) of the Act.

Dated: August 31, 2017.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Application of Facts Available and Use of Adverse Inference

A. Application of Facts Available

B. Use of Adverse Inference

C. Selection and Corroboration of the Adverse Facts Available Rate

V. Discussion of The Issues

A. Hyosung-Specific Issues Failure to Report Separately Service-Related Revenues Invoice Used in last Period of Review (POR) Used in this POR for Different Sale Unreported Sales Adjustments

B. Hyundai-Specific Issues Failure to Separately Report the Prices and Costs for Accessories Understatement of the Home Market Gross Unit Price Undisclosed Relationship with Hyundai's Sales Agent

VI. Rate for Non-Selected Companies

VII. Recommendation

[FR Doc. 2017-18998 Filed 9-6-17; 8:45 am]

BILLING CODE 3510-DS-P